DEPARTMENT OF HOMELAND SECURITY

[Docket No. DHS-2013-0082]

President's National Security Telecommunications Advisory Committee

AGENCY: National Protection and Programs Directorate, Department of Homeland Security (DHS).

ACTION: Committee Management notice of an open Federal Advisory Committee meeting.

SUMMARY: The President's National Security Telecommunications Advisory Committee (NSTAC) will meet via teleconference on Wednesday, February 19, 2014. The meeting will be open to the public.

DATES: The NSTAC will meet on Wednesday, February 19, 2014, from 2 p.m. to 3 p.m. Please note that the meeting may close early if the committee has completed its business.

ADDRESSES: The meeting will be held via conference call. For access to the conference call bridge, contact Ms. Suzanne Daage by email at sue.daage@hq.dhs.gov or phone at (703)235-5461 by 5 p.m. on Friday, February 14, 2014. To facilitate public participation, we are inviting public comment on the issues to be considered by the committee, as listed in the SUPPLEMENTARY INFORMATION section below. For information on services for individuals with disabilities or to request special assistance to access the meeting, contact Ms. Suzanne Daage by email at sue.daage@hq.dhs.gov or phone at (703) 235-5461. Documents associated with the topics the committee will discuss during the conference call will be available at www.dhs.gov/nstac for review by Tuesday, February 11, 2014. Written comments must be received by the NSTAC Alternate Designated Federal Officer no later than Friday, February 14, 2014, and may be submitted by any one of the following methods:

• Federal eRulemaking Portal: http://www.regulations.gov. Follow the instructions for submitting written comments.

• Email: NSTAC@hq.dhs.gov. Include the docket number in the subject line of the email message.

• Fax: 703-235-5961.

• Mail: Alternate Designated Federal Officer, Stakeholder Engagement and Critical Infrastructure Resilience Division, National Protection and Programs Directorate, Department of Homeland Security, 245 Murray Lane, Mail Stop 3016B, Arlington, VA 20598-0615.

Instructions: All submissions received must include the words “Department of Homeland Security” and the docket number for this action. Comments received will be posted without alteration at www.regulations.gov, including any personal information provided.

Docket: For access to the docket, including all documents and comments received by the NSTAC, go to www.regulations.gov and enter the docket number, DHS-2013-0082, for this notice.

A public comment period will be held during the conference call on Wednesday, February 19, 2014, from 2:25 p.m. to 2:40 p.m. Speakers who wish to participate in the public comment period must register in advance no later than Friday, February 14, 2014, at 5:00 p.m. by emailing Suzanne Daage at sue.daage@hq.dhs.gov. Speakers are requested to limit their comments to three minutes and will speak in order of registration as time permits. Please note that the public comment period may end before the time indicated, following the last request for comments.

FOR FURTHER INFORMATION CONTACT: Mr. Mike Echols, NSTAC Alternate Designated Federal Officer, Department of Homeland Security, telephone (703) 235-5469.

SUPPLEMENTARY INFORMATION: Notice of this meeting is given under the Federal Advisory Committee Act (FACA), 5 U.S.C. App. (Pub. L. 92-463). The NSTAC advises the President on matters related to national security and emergency preparedness (NS/EP) telecommunications policy.

Agenda: The NSTAC members will deliberate and vote on the draft NSTAC Industrial Internet Scoping Report, and receive an update on the NSTAC Information Technology Mobilization Scoping Subcommittee. The NSTAC Industrial Internet Scoping Report and the Information Technology Mobilization Scoping Subcommittee status update will be available at www.dhs.gov/nstac by Tuesday, February 11, 2014.

Dated: January 17, 2014.
Helen Jackson,
Designated Federal Officer for the NSTAC.

[FR Doc. 2014-01525 Filed 1-27-14; 8:45 am]

BILLING CODE 9110-9P-P